DEPARTMENT OF VETERANS AFFAIRS

Enhanced-Use Lease of VA Property for the Development and Operation of Parking and Commercial Facilities at the Department of Veterans Affairs Samuel S. Stratton VA Medical Center in Albany, NY

AGENCY: Department of Veterans Affairs (VA).

ACTION: Notice of intent to enter into an enhanced-use lease.

SUMMARY: The Department of Veterans Affairs intends to enter into an enhanced-use lease of approximately 2.4 acres of underutilized land at the Samuel S. Stratton VA Medical Center in Albany, New York. The selected lessee will finance, design, develop, construct, operate, manage and maintain a parking facility, and potentially a commercial facility. As consideration for the lease, the lessee will be required to provide VA with a new office building, at no cost to VA.

FOR FURTHER INFORMATION CONTACT: Edward Bradley, Office of Asset Enterprise Management (044C), Department of Veterans Affairs, 810 Vermont Avenue, NW., Washington, DC 20420, (202) 461-7778 (this is not a toll-free number).

SUPPLEMENTARY INFORMATION: Title 38 U.S.C. 8161, et seq. states that the Secretary may enter into an enhanced-use lease if he determines that implementation of a business plan proposed by the Under Secretary for Health for applying the consideration under such a lease for the provision of medical care and services would result in a demonstrable improvement of services to eligible Veterans in the geographic service-delivery area within which the property is located. This project meets this requirement.

Approved: May 26, 2009.
John R. Gingrich,
Chief, of Staff, Department of Veterans Affairs.

[FR Doc. E9-16297 Filed 7-8-09; 8:45 am]

BILLING CODE 8320-01-P